DEPARTMENT OF AGRICULTURE

Submission for OMB Review; Comment Request

August 12, 2004.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_ OIRA_Submission@ OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Cooperative State Research, Education, and Extension Service

Title: Grant Application Forms for the Small Business Innovation Research Grants Program.

OMB Control Number: 0524-0025.

Summary of Collection: In 1982, the Small Business Innovation Research (SBIR) Grants Program was authorized by Public Law 97-219, and in 2000, reauthorized through September 30, 2008, by Public Law 106-564. This legislation requires each Federal agency with a research or research and development budget in excess of $100 million to establish an SBIR program. Some of the objectives of the SBIR Program are to stimulate technological innovation in the private sector, strengthen the role of small businesses in meeting Federal research and development needs, increase private sector commercialization of innovations derived for USDA-supported research and developments efforts, and foster and encourage participation by women-owned and socially and economically disadvantaged small business firm in technological innovation. USDA conducts its SBIR Program through the use of grants and these grants are administered by CSREES.

Need and Use of the Information: CSREES uses forms CSREES-667, “Proposal Cover Sheet” and CSREES-668, “Project Summary,” to collect recordkeeping data, required certification, and information used to respond to inquiries from Congress, other Government agencies, and the grantee community concerning grant projects supported by the USDA SBIR Program.

Description of Respondents: Business or other for-profit; individuals or households.

Number of Respondents: 650.

Frequency of Responses: Reporting: on occasion.

Total Burden Hours: 1,424.

Sondra Blakey,
Departmental Information Collection Clearance Officer.

[FR Doc. 04-18891 Filed 8-17-04; 8:45 am]

BILLING CODE 3410-09-P